DEPARTMENT OF COMMERCE

National Oceanic and Atmospheric Administration

Proposed Information Collection; Comment Request; U.S.-Canada Albacore Treaty Reporting System

AGENCY: National Oceanic and Atmospheric Administration (NOAA), Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before January 3, 2011.

ADDRESSES: Direct all written comments to Diana Hynek, Departmental Paperwork Clearance Officer, Department of Commerce, Room 6616, 14th and Constitution Avenue, NW., Washington, DC 20230 (or via the Internet at dHynek@doc.gov).

FOR FURTHER INFORMATION CONTACT: Requests for additional information or copies of the information collection instrument and instructions should be directed to Chris Fanning, (562) 980-4198 or Chris.Fanning@noaa.gov.

SUPPLEMENTARY INFORMATION:

I. Abstract

The National Marine Fisheries Service (NMFS), Southwest Region (SWR), manages the United States (U.S.)-Canada Albacore Tuna Treaty of 1981 (Treaty). Owners of vessels that fish from U.S. West Coast ports for albacore tuna will be required to notify NMFS SWR of their desire to be on the list of vessels provided to Canada each year indicating vessels eligible to fish for albacore tuna in waters under the jurisdiction of Canada. Additionally, vessel operators are required to report in advance their intention to fish in Canadian waters prior to crossing the maritime border as well as to mark their fishing vessels to facilitate enforcement of the effort limits under the Treaty. Vessel operators are also required to maintain and submit a logbook of all catch and fishing effort. The regulations implementing the reporting and vessel marking requirements under the Treaty are at 50 CFR part 300.172-300.176.

II. Method of Collection

Requests to be placed on the vessel eligibility list may be made in writing via mail, fax, by e-mail, or by telephone. Communications to comply with `hail in' and `hail out' requirements are made via ship to shore radio or via telephone and are compiled in an electronic database by Canada Department of Fisheries and Oceans. Summaries of hail reports are provided to NMFS on a periodic basis. Vessel marking requirements entail painting the letter `U' immediately after the U.S. Coast Guard documentation identification number already on the vessel. Logbooks are maintained in pre-printed paper format and submitted via mail.

III. Data

OMB Control Number: 0648-0492.

Form Number: None.

Type of Review: Regular submission.

Affected Public: Business or other for-profit organizations.

Estimated Number of Respondents: 100.

Estimated Time per Response: 5 minutes to make the request to be placed on the eligible list per year; 10 minutes for each set of two hail reports for border crossings per year, 5 minutes to make the required vessel markings per year, and an estimated 2 and one half hours for logbook maintenance and submission.

Estimated Total Annual Burden Hours: 283.

Estimated Total Annual Cost to Public: $3,955.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: November 1, 2010.
Gwellnar Banks,
Management Analyst, Office of the Chief Information Officer.

[FR Doc. 2010-27859 Filed 11-3-10; 8:45 am]

BILLING CODE 3510-22-P